NATIONAL SCIENCE FOUNDATION

Advisory Committee for Social, Behavioral, and Economic Sciences; Notice of Meeting

In accordance with the Federal Advisory Committee Act (Pub. L. 92-463, as amended), the National Science Foundation announces the following meeting:

Name: Advisory Committee for Social, Behavioral, and Economic Sciences (#1171).

Date/Time: November 20, 2008; 8:30 a.m. to 5:30 p.m.; November 21, 2008; 8:30 a.m. to 11:45 a.m.

Place: National Science Foundation, 4201 Wilson Boulevard, Stafford I, Third Floor—Room 375, Arlington, VA 22230.

Type of Meeting: Open.

Contact Person: Ms. Lisa Jones, Office of the Assistant Director, Directorate for Social, Behavioral, and Economic Sciences, National Science Foundation, 4201 Wilson Boulevard, Room 905, Arlington, Virginia 22230, 703-292-8700.

Summary of Minutes: May be obtained from contact person listed above.

Purpose of Meeting: To provide advice and recommendation to the National Science Foundation on major goals and policies pertaining to Social, Behavioral and Economic Sciences Directorate programs and activities.

Agenda

Thursday

Updates and Discussions on Continuing Activities

CyberInfrastructure, Cyber-enabled Discovery and Innovation, and SBE Sciences

• Data: Massive data sets, data preservation, etc.

• Virtual organizations: For the SBE sciences and as a subject of SBE study

• Complexity sciences in SBE

Facilitating Transformative and Interdisciplinary Research

Science of Broadening Participation: Workshop Report

Update on SRS activities

Friday

Updates and Discussion on Continuing Activities

Upcoming Committees of Visitors

• SLC Program

• SRS Division

• BCS Division

Discussion with the NSF Director

Planning for FY 2010 and Beyond

Dated: October 29, 2008.
Susanne Bolton,
Committee Management Officer.

[FR Doc. E8-26112 Filed 10-31-08; 8:45 am]

BILLING CODE 7555-01-P